DEPARTMENT OF DEFENSE

Office of the Secretary

[Docket ID DOD-2009-OS-0179]

Privacy Act of 1974; System of Records

AGENCY: Office of the Secretary of Defense.

ACTION: Notice to add a system of records.

SUMMARY: The Office of the Secretary of Defense proposes to add a system of records to its inventory of record systems subject to the Privacy Act of 1974 (5 U.S.C. 552a), as amended.

DATES: This proposed action would be effective without further notice on January 14, 2010 unless comments are received which result in a contrary determination.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: Ms. Cindy Allard at (703) 588-6830.

SUPPLEMENTARY INFORMATION: The Office of the Secretary of Defense notices for systems of records subject to the Privacy Act of 1974 (5 U.S.C. 552a), as amended, have been published in the Federal Register and are available from: Chief, OSD/JS Privacy Office, Freedom of Information Directorate, Washington Headquarters Services, 1155 Defense Pentagon, Washington DC 20301-1155.

The proposed system report, as required by 5 U.S.C. 552a(r) of the Privacy Act of 1974, as amended, was submitted on June 29, 2009, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: December 3, 2009.
Mitchell S. Bryman,
Alternate OSD Federal Register Liaison Officer, Department of Defense.

System Identifier:

DHRA 06 DoD

System name:

Defense Sexual Assault Incident Database

System location:

Primary location: Washington Headquarters Services, Information Technology Management Directorate, WHS-Supported Organizations Division, 2521 South Clark Street, Suite 640, Arlington, Virginia 22209-2328.

Secondary locations: The Department of the Army, Sexual Assault Data Management System, Army G-1, DAPE-HR-HF, Room 300 Army Pentagon, Washington, DC 20310-0300.

The Department of the Navy, Consolidated Law Enforcement Operations Center, Naval Criminal Investigative Service, 716 Sicard Street, SE., Washington Navy Yard, DC 20388-5380.

The Department of the Navy, Criminal Justice Information System, Naval Criminal Investigative Service, 716 Sicard Street, SE., Washington Navy Yard, DC 20388-5380.

The Department of the Navy, Sexual Assault Victim Intervention, Navy Installations Command, N911, Sexual Assault Victim Intervention Program Manager, 716 Sicard Street, SE., Suite 1000, Washington Navy Yard, DC 20374-5140.

The U.S. Marine Corps, Sexual Assault Information Reporting Database, Manpower and Reserve Affairs, Headquarters United States Marine Corps, 3280 Russell Road, Quantico, Virginia 22134-5143.

The Department of the Air Force, Investigative Information Management System, Headquarters United States Air Force, Air Force Office of Special Investigations, 1535 Command Drive, Room AA301, Andrews Air Force Base, Maryland 20762-7002.

The Department of the Air Force, Automated Military Justice Analysis and Management System, The Judge Advocate General, Headquarters United States Air Force, 1420 Air Force Pentagon, Washington, DC 20330-1420.

The National Guard Bureau, Sexual Assault Prevention and Response Office, ATTN: Defense Sexual Assault Incident Database Program Manager, 1401 Wilson Boulevard, Suite 402, Arlington, Virginia 22209-2318.

Decentralized locations include the Services staff and field operating agencies, major commands, installations, and activities. Official mailing addresses are published as an appendix to each Service's compilation of systems of records notices.

Categories of individuals covered by the system:

Military personnel, DoD civilians, or contractors who may be victims and/or alleged perpetrators in a sexual assault involving a member of the Armed Forces.

Categories of records in the system:

Victim information includes last, first, and middle name, victim case number (i.e., system generated unique control number), identification type (i.e., Social Security Number (SSN), passport, U.S. Permanent Residence Card, foreign identification), identification number for identification provided, birth date, age at the time of incident, gender, race, ethnicity, and victim category (i.e., military, DoD civilian/contractor).

Alleged perpetrator information includes last, first, and middle name, identification type (i.e., Social Security Number (SSN), passport, U.S. Permanent Residence Card, foreign identification), identification number for identification provided, birth date, age at the time of incident, gender, race, ethnicity, and alleged perpetrator category (i.e., military, DoD civilian/contractor).

However, if a victim of a sexual assault involving a member of the Armed Forces makes a restricted report of sexual assault, no personal identifying information for the victim and/or alleged perpetrator is collected.

Authority for maintenance of the system:

10 U.S.C. 113 note, Department of Defense Policy and Procedures on Prevention and Response to Sexual Assaults Involving Members of the Armed Forces; 10 U.S.C. 136, Under Secretary of Defense for Personnel and Readiness; DoD Directive 6495.01, Sexual Assault Prevention and Response (SAPR) Program; DoD Instruction 6495.02, Sexual Assault Prevention and Response (SAPR) Program Procedures; 10 U.S.C. 3013, Secretary of the Army; Army Regulation 600-20, Sexual Assault Prevention and Response (SAPR) Program; 10 U.S.C. 5013, Secretary of the Navy; Secretary of the Navy Instruction 1752.4A, Sexual Assault Prevention and Response; Marine Corps Order 1752.5A, Sexual Assault Prevention and Response (SAPR) Program; 10 U.S.C. 8013, Secretary of the Air Force; Air Force Instruction 36-6001, Sexual Assault Prevention and Response (SAPR) Program; and E.O. 9397 (SSN), as amended.

Purpose(s):

To facilitate the reporting requirements found in 10 U.S.C. 113 note, Department of Defense Policy and Procedures on Prevention and Response to Sexual Assaults Involving Members of the Armed Forces by centralizing case-level sexual assault data involving a member of the Armed Forces and ensuring uniform collection of data on the incidence of sexual assaults. To measure compliance and the effectiveness of sexual assault prevention and response training and awareness objectives. Information on DoD civilians or contractors is collected only if they are a victim or alleged perpetrator of a sexual assault involving a member of the Armed Forces such information is collected only for statistical purposes. At the local level, Sexual Assault Response Coordinators and Victim Advocates work with victims to ensure that they are aware of services available, and that they have contact with medical treatment personnel and DoD law enforcement entities. At the DoD level, only de-identified data is used to respond to mandated reporting requirements. The DoD Sexual Assault Prevention and Response Office has access to identified closed case information and de-identified, aggregate open case information for study, research, and analysis purposes.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

The DoD “Blanket Routine Uses” set forth at the beginning of Office of the Secretary of Defense systems of records notices apply to this system.

Policies and practices for storing, retrieving, accessing, retaining, and disposing of records in the system:

Storage:

Paper files and electronic media.

Retrievability:

Victim records are retrieved by first name, last name, Social Security Number (SSN), identification number and type of identification provided, and Defense Sexual Assault Incident Database control number assigned to the incident.

Alleged perpetrator records are retrieved by first name, last name, and identification number and type of identification provided.

Safeguards:

Primary location: Records are maintained in a controlled facility. Physical entry is restricted by the use of alarms, cipher and locks and armed guards. Access to case files in the system is role-based and requires the use of a Common Access Card and password. Further, at the DoD-level, only de-identified data can be accessed.

Secondary location: Each Service ensures that all paper and electronic records are collected, retained, and destroyed IAW DoD Directive 5015.2, “Department of Defense Records Management Program” and DoD Directive 5015.2-STD, “Design Criteria Standard for Electronic Records Management Software Applications.”

These are “For Official Use Only” records and are maintained in controlled facilities that employ physical restrictions and safeguards such as security guards, identification badges, key cards, and locks.”

Retention and disposal:

Records are cut off two years after inactivity and destroyed sixty years after cut off.

“For Official Use Only” records are destroyed in a way that precludes recognition or reconstruction that includes but are not limited to the following methods: burning, cross-cut shredding, wet-pulping, mutilation, chemical decomposition or destroyed IAW DoD 5200.1-R, “Information Security Program.”

System manager(s) and address:

Sexual Assault Prevention and Response Office, Attn: Defense Sexual Assault Incident Database Program Manager, 1401 Wilson Boulevard, Suite 402, Arlington, Virginia 22209-2318.

Notification procedure:

Individuals seeking to determine whether information about themselves is contained in this system of records should address written inquiries to the appropriate Service office listed below:

The Department of the Army, Sexual Assault Data Management System, Army G-1, Attn: DAPE-HR-HF, 300 Army Pentagon, Washington, DC 20310-0300.

The Department of the Navy and the Marine Corps, Naval Criminal Investigative Service, 716 Sicard Street, SE., Washington Navy Yard, DC 20388-5380.

The Department of the Air Force, ATTN: Sexual Assault Prevention and Response Program Manager, 201 12th Street South, Suite 411, Arlington, Virginia 22202-5408.

The National Guard Bureau, Sexual Assault Prevention and Response Office, Attn: Defense Sexual Assault Incident Database Program Manager, 1401 Wilson Boulevard, Suite 402, Arlington, Virginia 22209-2318.

Requests should contain first and last name, Social Security Number (SSN), and identification number for type of identification type referenced. Requests must be signed and include the name, identification number, form of identification, indicate whether the individual is a victim or alleged perpetrator, and the number of this system of records notice.

Record access procedures:

Individuals seeking access to records about themselves contained in this system of records should address written inquiries to the following as appropriate:

The Department of the Army, Sexual Assault Data Management System, Army G-1, Attn: DAPE-HR-HF, 300 Army Pentagon, Washington, DC 20310-0300.

The Department of the Navy and the Marine Corps, Naval Criminal Investigative Service, 716 Sicard Street, SE., Washington Navy Yard, DC 20388-5380.

The Department of the Air Force, Attn: Sexual Assault Prevention and Response Program Manager, 201 12th Street South, Suite 411, Arlington, Virginia 22202-5408.

The National Guard Bureau, Sexual Assault Prevention and Response Office, Attn: Defense Sexual Assault Incident Database Program Manager, 1401 Wilson Boulevard, Suite 402, Arlington, Virginia 22209-2318.

Requests should contain first and last name, Social Security Number (SSN), and identification number for type of identification type referenced. Requests must be signed and include the name, identification number, form of identification, indicate whether the individual is a victim or alleged perpetrator, and the number of this system of records notice.

Contesting record procedures:

The Office of the Secretary of Defense rules for accessing records for contesting contents and appealing initial agency determinations are contained in Office of the Secretary of Defense Administrative Instruction 81; 32 Code of Federal Regulations part 311; or may be obtained from the system manager.

Record source categories:

The individual, Sexual Assault Response Coordinators, Service Military Criminal Investigative Organizations, and Offices of the Judge Advocate Generals.

Exemptions claimed for the system:

None.

[FR Doc. E9-29220 Filed 12-14-09; 8:45 am]

BILLING CODE 5001-06-P